NUCLEAR REGULATORY COMMISSION

[Docket No. 50-261; NRC-2025-0076]

Duke Energy Progress, LLC; H.B. Robinson Steam Electric Plant, Unit No. 2; Notice of Intent To Conduct Scoping Process and Prepare Supplemental Environmental Impact Statement

AGENCY: Nuclear Regulatory Commission.

ACTION: Notice; request for comment.

SUMMARY: The U.S. Nuclear Regulatory Commission (NRC) will conduct a scoping process to gather information necessary to prepare a supplemental environmental impact statement (SEIS) to evaluate the environmental impacts for the subsequent renewal of the renewed facility operating license for H.B. Robinson Steam Electric Plant, Unit No. 2 (RNP). The NRC is seeking public comment on this action.

DATES: Submit comments on the scope of the SEIS by June 23, 2025. Comments received after this date will be considered if it is practical to do so, but the NRC is able to ensure consideration only for comments received on or before this date.

ADDRESSES: You may submit comments by any of the following methods; however, the NRC encourages electronic comment submission through the Federal rulemaking website.

• Federal rulemaking website: Go to https://www.regulations.gov and search for Docket ID NRC-2025-0076. Address questions about Docket IDs in Regulations.gov to Bridget Curran; telephone: 301-415-1003; email: Bridget.Curran@nrc.gov. For technical questions, contact the individual listed in the For Further Information Contact section of this document.

• Email comments to: RobinsonEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Loomis, Office of Nuclear Material Safety and Safeguards, U.S. Nuclear Regulatory Commission, Washington, DC 20555-0001; telephone: 301-415-5142; email: Karen.Loomis@nrc.gov.

SUPPLEMENTARY INFORMATION:

I. Obtaining Information and Submitting Comments

A. Obtaining Information

Please refer to Docket ID NRC-2025-0076 when contacting the NRC about the availability of information for this action. You may obtain publicly available information related to this action by any of the following methods:

• Federal Rulemaking website: Go to https://www.regulations.gov and search for Docket ID NRC-2025-0076.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The RNP subsequent license renewal application is available in ADAMS under Package Accession No. ML25091A290.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the RNP subsequent license renewal application, including the environmental report (ER), is available for public review at the following public library location: Hartsville Memorial Library, 147 West College Ave., Hartsville, SC 29550.

B. Submitting Comments

The NRC encourages electronic comment submission through the Federal rulemaking website (https://www.regulations.gov). Please include Docket ID NRC-2025-0076 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

By letter dated April 1, 2025, Duke Energy Progress, LLC (Duke) submitted to the NRC an application for subsequent license renewal (SLR) of RNP Renewed Facility Operating License No. DPR-32 for an additional 20 years of operation. This submission initiated the NRC's proposed action of determining whether to grant the SLR application. RNP is located in Darlington County, approximately 5 miles west-northwest of Hartsville, in northeastern South Carolina. The current RNP license expires at midnight on July 31, 2030. The SLR application was submitted pursuant to part 54, of title 10 of the Code of Federal Regulations (10 CFR), “Requirements for Renewal of Operating Licenses for Nuclear Power Plants,” and seeks to extend the license for RNP to midnight on July 31, 2050. A notice of receipt and availability of the application was published in the Federal Register on April 21, 2025 (90 FR 16707). A notice of acceptance for docketing of the application and of an opportunity to request a hearing was published in the Federal Register on May 8, 2025 (90 FR 19535) and is available on the Federal rulemaking website (https://www.regulations.gov) by searching for Docket ID NRC-2025-0076.

III. Request for Comment

This notice informs the public of the NRC's intention to conduct environmental scoping and prepare a SEIS related to the SLR application for RNP and provides the public an opportunity to participate in the environmental scoping process, as defined in 10 CFR 51.29, “Scoping-environmental impact statement and supplement to environmental impact statement,” and 10 CFR 51.116, “Notice of intent.”

The regulations in 36 CFR 800.8, “Coordination with the National Environmental Policy Act,” allow agencies to use their National Environmental Policy Act of 1969, as amended (42 U.S.C. 4321, et seq.) (NEPA), process to fulfill the requirements of Section 106 of the National Historic Preservation Act of 1966, as amended (54 U.S.C. 300101, et seq.) (NHPA). Therefore, pursuant to 36 CFR 800.8(c), the NRC intends to use its process and documentation required for the preparation of the SEIS on the proposed action to comply with Section 106 of the NHPA in lieu of the procedures set forth at 36 CFR 800.3 through 800.6.

In accordance with 10 CFR 51.53(c) and 10 CFR 54.23, Duke submitted an ER as part of the SLR application. The ER was prepared pursuant to 10 CFR part 51, “Environmental Protection Regulations for Domestic Licensing and Related Regulatory Functions,” and is publicly available in ADAMS under Accession No. ML25091A296. The ER will also be available for viewing at https://www.nrc.gov/reactors/operating/licensing/renewal/applications/robinson-subsequent.html.

The NRC intends to gather the information necessary to prepare the SEIS as a plant-specific supplement to NUREG-1437, “Generic Environmental Impact Statement for License Renewal of Nuclear Plants” (ADAMS Package Accession No. ML24087A133). The SEIS will evaluate the environmental impacts of SLR for RNP, and reasonable alternatives thereto. Possible alternatives to the proposed action include the no-action alternative and reasonable alternative energy sources. This notice is being published in accordance with NEPA and the NRC's regulations at 10 CFR part 51.

As part of its environmental review, the NRC will first conduct a scoping process for the SEIS and, as soon as practicable thereafter, will prepare a draft SEIS for public comment. Participation in this scoping process by members of the public and local, State, Tribal, and Federal government agencies is encouraged. The scoping process for the SEIS will be used to accomplish the following:

a. Define the proposed action that is to be the subject of the SEIS;

b. Determine the scope of the SEIS and identify the significant issues to be analyzed in depth;

c. Identify and eliminate from detailed study those issues that are peripheral or are not significant or that have been covered by prior environmental review;

d. Identify any environmental assessments and other environmental impact statements that are being or will be prepared that are related to, but are not part of, the scope of the SEIS under consideration;

e. Identify other environmental review and consultation requirements related to the proposed action;

f. Indicate the relationship between the timing of the preparation of the environmental analyses and the NRC's tentative planning and decision-making schedule;

g. Identify any cooperating agencies and, as appropriate, allocate assignments for preparation and schedules for completing the SEIS to the NRC and any cooperating agencies; and

h. Describe how the SEIS will be prepared, including any contractor assistance to be used.

The NRC invites the following entities to participate in scoping:

a. The applicant, Duke;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene under 10 CFR 2.309.

Participation in the scoping process for the RNP SLR SEIS does not entitle participants to become parties to the proceeding to which the SEIS relates.

Dated: May 19, 2025.
For the Nuclear Regulatory Commission.
John Moses,
Deputy Director, Division of Rulemaking, Environmental, and Financial Support, Office of Nuclear Material Safety and Safeguards.

[FR Doc. 2025-09237 Filed 5-21-25; 8:45 am]

BILLING CODE 7590-01-P